LEGAL SERVICES CORPORATION

Notice of Availability of Calendar Year 2003 Competitive Grant Funds

AGENCY: Legal Services Corporation.

ACTION: Solicitation for Proposals for the Provision of Veterans Legal Services.

SUMMARY: The Legal Services Corporation (LSC) is the national organization charged with administering Federal funds provided for civil legal services to the poor.

LSC hereby announces the availability of competitive grant funds and is soliciting grant proposals from interested parties who are qualified to provide effective, efficient and high quality legal services to eligible veterans appearing before the United States Court of Veterans Appeals. The exact amount of congressionally appropriated funds and the date, terms and conditions of their availability for calendar year 2003 have not been determined.

DATES: See SUPPLEMENTARY INFORMATION section for grants competition dates.

ADDRESSES: Legal Services Corporation—Veterans Grant Competition, Attn: Jennifer Bateman, 750 First Street NE., 10th Floor, Washington, DC 20002-4250.

FOR FURTHER INFORMATION CONTACT: Office of Program Performance, Veterans Grant Competition—by FAX at (202) 336-7272, by e-mail at batemanj@lsc.gov

SUPPLEMENTARY INFORMATION: Request for Proposals (RFP) will be available beginning May 28, 2002.

LSC is seeking proposals from: (1) Non-profit organizations that have as a purpose the furnishing of legal assistance to eligible clients; (2) private attorneys; (3) groups of private attorneys or law firms; (4) State or local governments; and (5) substate regional planning and coordination agencies which are composed of substate areas and whose governing boards are controlled by locally elected officials.

The RFP, containing the grant application, guidelines, proposal content requirements and specific selection criteria, can be requested by contacting Jennifer Bateman at 202.336.8835 or by email at batemanj@lsc.gov. LSC will not FAX the solicitation package to interested parties. The deadline for submission of the Grant Application is August 9, 2002 by 5:00 p.m. EDT.

Dated: May 9, 2002.
Michael A. Genz,
Director, Office of Program Performance.

[FR Doc. 02-12021 Filed 5-14-02; 8:45 am]

BILLING CODE 7050-01-P